DEPARTMENT OF DEFENSE

Department of the Navy

Notice of Intent To Grant Partially Exclusive License; Ford Motor Company

AGENCY: Department of the Navy, DOD.

ACTION: Notice.

SUMMARY: The Department of the Navy hereby gives notice of its intent to grant Ford Motor Company, a revocable, non-assignable, partially exclusive license in the field of use of all automotive applications for cars and trucks under 30,000 pounds gross vehicle weight in the United States to practice the Government-owned inventions described in U.S. Patent No. 5,705,863 entitled “Hight Speed Magnetostrictive Linear Motor.”

DATES: Anyone wishing to object to the granting of this license must file written objections along with supporting evidence, if any, not later than May 23, 2000.

ADDRESSES: Written objections are to be filed with the Carderock Division, Naval Surface Warfare Center, Code 004, 9500 MacArthur Blvd., West Bethesda, Maryland 20817-5700.

FOR FURTHER INFORMATION CONTACT: Mr. Dick Bloomquist, Director Technology Transfer, Carderock Division, Naval Surface Warfare Center, Code 0117, 9500 MacArthur Blvd, West Bethesda, Maryland 20817-5700, telephone (301) 227-4299.

Authority: 35 U.S.C. 207, 37 CFR Part 404.

Dated: March 15, 2000.
J.L. Roth,
Lieutenant Commander, Judge Advocate General's Corps, U.S. Navy, Federal Register Liaison Officer.

[FR Doc. 00-7283 Filed 3-23-00; 8:45 am]

BILLING CODE 3810-FF-U